DEPARTMENT OF COMMERCE

National Oceanic and Atmospheric Administration

50 CFR Part 217

[Docket No. 201204-0326]

RIN 0648-BB38

Taking and Importing Marine Mammals; Taking Marine Mammals Incidental to Geophysical Surveys Related to Oil and Gas Activities in the Gulf of Mexico; Correction

AGENCY: National Marine Fisheries Service (NMFS), National Oceanic and Atmospheric Administration (NOAA), Commerce.

ACTION: Final rule; correction.

SUMMARY: This notice contains corrections to a final rule. The document being corrected is the regulations governing the Taking and Importing of Marine Mammals; Taking Marine Mammals Incidental to Geophysical Survey Activities in the Gulf of Mexico, which was published on January 19, 2021. The regulations will become effective on April 19, 2021.

DATES: Effective April 9, 2021.

ADDRESSES: Information related to this rulemaking is available online at: www.fisheries.noaa.gov/action/incidental-take-authorization-oil-and-gas-industry-geophysical-survey-activity-gulf-mexico. In case of problems accessing these documents, please call the contact listed below.

FOR FURTHER INFORMATION CONTACT: Ben Laws, Office of Protected Resources, NMFS, (301) 427-8401.

SUPPLEMENTARY INFORMATION:

Background

NMFS published a rule in the Federal Register on January 19, 2021 (86 FR 5322) announcing issuance of final regulations concerning the authorization of take of marine mammals incidental to incidental to geophysical survey activities in the Gulf of Mexico, valid for five years from the date of effectiveness. NMFS issued the regulations upon request from the Bureau of Ocean Energy Management (BOEM) to govern the unintentional taking of marine mammals incidental to geophysical survey activities conducted by oil and gas industry operators, and those persons authorized to conduct activities on their behalf, in Federal waters of the U.S. Gulf of Mexico over the course of five years. The regulations, which allow for the issuance of Letters of Authorization to industry operators for the incidental take of marine mammals during the described activities and specified timeframe, prescribe the permissible methods of taking and other means of effecting the least practicable adverse impact on marine mammal species or stocks and their habitat, as well as requirements pertaining to the monitoring and reporting of such taking. NMFS refers the reader to the January 19, 2021 (86 FR 5322), Federal Register rule for background information concerning the regulations. The information in the notice of issuance is not repeated here.

Correction

The codification error to be corrected appears in the regulatory text at 50 CFR 217.185 (c) (86 FR 5322; Docket No. 201204-0326). The paragraph after paragraph (c)(13)(xviii) was numbered in error as paragraph (12). That paragraph is hereby corrected to (14).

Dated: April 5, 2021.
Samuel D. Rauch, III,
Deputy Assistant Administrator for Regulatory Programs, National Marine Fisheries Service.

[FR Doc. 2021-07351 Filed 4-6-21; 4:30 pm]

BILLING CODE 3510-22-P